DEPARTMENT OF THE INTERIOR

Bureau of Land Management

[MT-099-1150-MQ]

Notice Rescinding the October 18, 1999, Shooting Area Closure in South Phillips County, MT

AGENCY: Bureau of Land Management, Interior.

ACTION: Rescinding Notice of Closure.

SUMMARY: The Bureau of Land Management (BLM) on October 18, 1999, closed about 26,500 acres of public land to the discharge or use of firearms. The areas closed are described as the 40-Complex between Dry Fork and Beauchamp Creek, and an area south of Pea Ridge in south Phillips County, Montana. The purpose of the closure was to protect habitat for the reintroduction of the endangered black-footed ferret (Mustela nigripes). That habitat is black-tailed prairie dog (Cynomys ludovicianus) colonies.

House Bill 492 (HB 492) was passed by the Montana Legislature to allow the Montana Fish, Wildlife, and Parks (FWP) to manage black and white-tailed prairie dogs on Bureau of Land Management lands. Further action by FWP consisted of amending Administrative Rules of Montana (ARM) 12.2.501, to include black-tailed and white-tailed prairie dogs in the definition of non-game wildlife in need of management. The FWP Commission approved the adoption of the proposed ARM rule on January 24, 2002, and FWP filed the ARM adoption notice on February 20, 2002. Part of this rule making was to place a seasonal shooting closure on all BLM lands in Montana for black-tailed prairie dogs and a year-round shooting closure on black-footed ferret reintroduction sites. Since FWP has placed a year-round shooting closure on black-footed reintroduction sites, BLM's 1999 shooting closure is no longer required to protect the habitat for the black-footed ferret.

The BLM lands in the 40-Complex include:

T. 24 N., R. 27 E., sec. 20, all; sec. 21, all; sec. 25, all; sec. 26, all; sec. 27, all; sec. 28, all; sec. 29, N½ and SE¼; sec. 34, all; sec. 35, all.

T. 24 N., R. 28 E., sec. 31, lots 1-4, E½ W½ and E½; Sec. 32, all.

T. 23 N., R. 27 E., sec. 1, lots 1-4, S½N½ and S½; sec. 2, lots 1-4, S½N½ and S½; sec. 3, lot 1, SE¼NE¼ and E½SE¼; sec. 10, E½NE¼ and NE¼SE¼; sec. 11, all; sec. 12, all; sec. 13, all.

T. 23 N., R. 28 E., sec. 5, lots 1-4, S½N½ and S½; sec. 6, lots 1-7, SE¼NW¼, S½NE¼, SE¼, and E½SW¼; sec. 7, lots 1-4; E½W½ and E½; sec. 8, all; sec. 17, all; sec. 18, lots 1-4, E½W½, and E½.

This includes the following prairie dog towns: B040, B041, B042, B043, B045, B047, B069, B072, and B148.

The BLM lands in the area south of Pea Ridge include:

T. 22 N., R. 29 E., sec. 9, all; sec. 10, all; sec. 11, all; sec. 13, all; sec. 14, all; sec 15, all; sec. 17 E½ and S½SW¼; sec. 20, N½ and SE¼; sec. 21, all; sec. 22, all; sec. 23, all;, sec. 24, all; sec. 25, all; sec. 26, all; sec. 27, all; sec. 28, all; sec. 29, all.

T. 22 N., R. 30 E., sec. 18, lots 1-4, E½W½ and E½; sec. 19, lots 1-4, E½W½ and E½; sec. 30, lots 1-4, E½W½ and E½.

This includes the following prairie dog towns: B095, B096, B111, B163, and B164.

BLM would consider appropriate actions if FWP decides to rescind or significantly modify the Annual Rule Regulating Prairie Dog Shooting on Public Lands. This could include implementing a Land Use Closure on the 40-Complex and/or any other black-footed ferret reintroduction site under BLM administration to protect black-footed ferrets and the associated habitat in accordance with 43 CFR 8364.1.

The effective date of rescinding this closure is the date the notice is published in the Federal Register.

FOR FURTHER INFORMATION CONTACT: Bruce Reed at 406-654-5100.

Authority: 43 CFR 8364.1
Dated: June 17, 2002.
Bruce W. Reed,
Field Manager, Bureau of Land Management.

[FR Doc. 02-22404 Filed 8-30-02; 8:45 am]

BILLING CODE 4310-DN-P